FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011800.

Title: Dole Ocean Cargo Express/Maersk Sealand Slot Charter Agreement.

Parties: A.P. Møller-Maersk Sealand, Dole Ocean Cargo Express, Inc.

Synopsis: Under the proposed agreement, Maersk Sealand will be chartering space to Dole in the trade between Port Everglades, Florida, and Puerto Limon, Costa Rica.

Agreement No.: 011801.

Title: Maersk Sealand/P&O Nedlloyd U.S. East Coast/Indian Subcontinent Slot Charter Agreement.

Parties: A.P. Møller-Maersk Sealand, P&O Nedlloyd Limited/P&O Nedlloyd BV.

Synopsis: Under the proposed agreement, Maersk Sealand will charter space to P&O Nedlloyd in the trade between U.S. East Coast ports and Mediterranean, Mideast, and Indian Subcontinent ports. The parties request expedited review.

Agreement No.: 011802.

Title: The Evergreen/Lloyd Triestino/Hatsu Marine Alliance-WTSA Bridging Agreement.

Parties:

Evergreen Marine Corp. (Taiwan) Ltd.

Lloyd Triestino Di Navigazione S.p.A.

Hatsu Marine Limited, American President Lines, Ltd.

APL Co. PTE Ltd.

A.P. Moller-Maersk Sealand,

Cosco Container Lines Ltd.,

Hanjin Shipping Company, Ltd.,

Hapag-Lloyd Container Linie GmbH

Hyundai Merchant Marine Co., Ltd.

Kawasaki Kisen Kaisha, Ltd.

Mitsui O.S.K. Lines, Ltd.

Nippon Yusen Kaisha

Orient Overseas Container Line Limited

P&O Nedlloyd B.V.

P&O Nedlloyd Limited

Yangming Marine Transport Corp.

Synopsis: The proposed agreement authorizes a “bridge” agreement between the Evergreen/Lloyd Triestino/Hatsu Marine Alliance Agreement and the Westbound Transpacific Stabilization Agreement (“WTSA”). The agreement will permit Lloyd Triestino and Hatsu, as well as their affiliate Evergreen, to discuss, share information, and reach voluntary agreements with WTSA and its members.

Agreement No.: 201133.

Title: TraPac Terminal Link of California Terminal Agreement.

Parties:

CMA CGM, S.A.

Trans Pacific Container Service Corporation

Terminal Link, S.A.

TraPac Terminal Link of California LLC.

Synopsis: Under the proposed agreement, the parties will discuss, agree, organize, and operate as a marine terminal operator through or with a limited liability company in Los Angeles County.

By Order of the Federal Maritime Commission.
Dated: May 3, 2002.
Bryant L. VanBrakle,
Secretary.

[FR Doc. 02-11460 Filed 5-7-02; 8:45 am]

BILLING CODE 6730-01-P